DEPARTMENT OF ENERGY

Federal Energy Regulatory Commission

Notice of Effectiveness of Exempt Wholesale Generator and Foreign Utility Company Status

| Docket No.
NextEra Energy Bluff Point, LLC | EG17-115-000
Horse Hollow Wind IV, LLC | EG17-116-000
Horse Hollow Wind II, LLC | EG17-117-000
CA Flats Solar 130, LLC | EG17-118-000
Buckthorn Wind, LLC | EG17-119-000
Bearkat Wind Energy I, LLC | EG17-120-000
Cottonwood Wind Project, LLC | EG17-121-000
Jacinta Solar Farm S.R.L | FC17-2-000
Nicefield S.A | FC17-3-000

Take notice that during the month of August 2017, the status of the above-captioned entities as Exempt Wholesale Generators or Foreign Utility Companies became effective by operation of the Commission's regulations. 18 CFR 366.7(a) (2017).

Dated: September 13, 2017.
Nathaniel J. Davis, Sr.,
Deputy Secretary.

[FR Doc. 2017-19872 Filed 9-18-17; 8:45 am]

BILLING CODE 6717-01-P